DEPARTMENT OF JUSTICE

Antitrust Division

Notice Pursuant to the National Cooperative Research and Production Act of 1993—International Electronics Manufacturing Initiative

Notice is hereby given that, on May 4, 2016, pursuant to section 6(a) of the National Cooperative Research and Production Act of 1993, 15 U.S.C. 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, St. Jude Medical, Sylmar, CA; CoreTech System Co., Ltd., Hsinchu, TAIWAN; INSIDIX, Seussins, FRANCE; Interflux Electronics nv, Gent-Desteldonk, Belgium; US Conec, Hickory, NC; Foresite, Inc., Kokomo, IN; SuZhou Eunow Co., Ltd., Suzhou, PEOPLE'S REPUBLIC OF CHINA; Takaoka Toko Co., Ltd. Shizuoka, JAPAN; University of Waterloo, Waterloo, Ontario, CANADA; and Shinko Electric America, Inc., San Jose, CA, have been added as parties to this venture.

Also, Hewlett Packard Enterprises, Palo Alto, CA; Griffith University, Nathan, AUSTRALIA; Cisco Systems Inc., San Jose, CA; Teradyne, Inc., North Reading, MA; and Speedline, Franklin, MA, have withdrawn as parties to this venture.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to section 6(b) of the Act on June 28, 1996 (61 FR 33774).

The last notification was filed with the Department on April 23, 2015. A notice was published in the Federal Register pursuant to section 6(b) of the Act on May 27, 2015 (80 FR 30269).

Patricia A. Brink,
Director of Civil Enforcement, Antitrust Division.

[FR Doc. 2016-13626 Filed 6-8-16; 8:45 am]

BILLING CODE P